NUCLEAR REGULATORY COMMISSION

Notice of Availability of Draft Interim Staff Guidance Document HLWRS-ISG-02, “Preclosure Safety Analysis—Level of Information and Reliability Estimation”; Extension of Comment Period

AGENCY: Nuclear Regulatory Commission.

ACTION: Extension of comment period.

SUMMARY: On September 29, 2006 (71 FR 57584), the U.S. Nuclear Regulatory Commission (NRC) published, for public comment, a Notice of Availability of Draft Interim Staff Guidance (ISG) document HLWRS-ISG-02, “Preclosure Safety Analysis—Level of Information and Reliability Estimation.” On October 26, 2006, the U.S. Department of Energy requested a 30-day extension to the public comment period for HLWRS-ISG-02, from November 13, 2006, to December 13, 2006. In response to this request, NRC is granting a 30-day extension to the public comment period for HLWRS-ISG-02, to December 13, 2006.

DATES: The comment period has been extended and now expires on December 13, 2006.

ADDRESSES: Mail written comments to: Robert Johnson, Senior Project Manager, Licensing and Inspection Directorate, High-Level Waste Repository Safety Division of the Office of Nuclear Material Safety and Safeguards, U.S. Nuclear Regulatory Commission, Washington, DC 20555-0001. Comments can also be submitted by telephone, fax, or e-mail, which are as follows: telephone: (301) 415-6900; fax number: (301) 415-5399; or e-mail: rkj@nrc.gov.

FOR FURTHER INFORMATION, CONTACT: Jon Chen, Project Manager, Licensing and Inspection Directorate Division of High-Level Waste Repository Safety, Office of Nuclear Material Safety and Safeguards, U.S. Nuclear Regulatory Commission, Washington, DC 20555-0001, Telephone: (301) 415-5526; fax number: (301) 415-5399; e-mail: jcc2@nrc.gov.

Dated at Rockville, Maryland, this 2nd day of November, 2006.
For the Nuclear Regulatory Commission.
N. King Stablein,
Chief, Project Management Branch B, Division of High-Level Waste Repository Safety, Office of Nuclear Material Safety and Safeguards.

[FR Doc. E6-18976 Filed 11-8-06; 8:45 am]

BILLING CODE 7590-01-P